Title 3—

The President

Proclamation 7420 of April 2, 2001

Pan American Day and Pan American Week, 2001

By the President of the United States of America

A Proclamation

This year on Pan American Day and during Pan American Week, the nations of the Americas celebrate the progress we have made toward our collective goal of a hemisphere united in freedom and democracy.

The United States and our neighboring countries in the Western Hemisphere have a long history of cooperation. Simon Bolivar first convened the Congress of Panama in 1826 with the intention of creating an association of states in the hemisphere. In 1890, a Pan American conference established the International Union of American Republics. The Union eventually became the Organization of American States (OAS), which continues to faith fully serve its member states. The OAS charter, in affirming the shared commitment, states that “the true significance of American solidarity and good neighborliness can only mean the consolidation . . . of a system of individual liberty and social justice based on respect for the essential rights of man.”

Today, we remain united through mutual interests and the hope for a better future for our people. This month I will join the democratically elected leaders of the hemisphere in Quebec City for the third Summit of the Americas. At this conference, we will build on efforts at previous Summits to promote our shared objectives of representative democracy, free trade, and using the power of free markets to better the lives of the poor. We will also build on our mutual interest in encouraging respect for human rights and improving relations among all the countries of the hemisphere.

Even with our significant progress, however, challenges remain. Cuba is the only country in the hemisphere that will be missing from the Quebec Summit. It is my sincere hope that our neighbor will soon rejoin the fraternity of democracies and that the Cuban people will again know freedom.

During Pan American Week and the Summit of the Americas, we reflect on and renew our common dedication to ensuring that the benefits of development are broadly shared. We also look forward to building even closer relationships among our countries for the sake of future generations. We have a responsibility to leave our children a hemisphere that honors the commitment of our predecessors, strengthening bonds that connect us as nations and as people. We want to make this the Century of the Americas.

NOW, THEREFORE, I, GEORGE W. BUSH, President of the United States of America, by virtue of the authority vested in me by the Constitution and laws of the United States, do hereby proclaim April 14, 2001, as Pan American Day and April 8 through April 14, 2001, as Pan American Week. I call upon all the people of the United States to observe this day and week with appropriate ceremonies and activities.

IN WITNESS WHEREOF, I have hereunto set my hand this second day of April, in the year of our Lord two thousand one, and of the Independence of the United States of America the two hundred and twenty-fifth.

B

[FR Doc. 01-8506

Filed 3-4-01; 8:45 am]

Billing code 3195-01-P